DEPARTMENT OF JUSTICE

Foreign Claims Settlement Commission

[F.C.S.C. Meeting and Hearing Notice No. 2-13]

Sunshine Act Meeting

The Foreign Claims Settlement Commission, pursuant to its regulations (45 CFR 503.25) and the Government in the Sunshine Act (5 U.S.C. 552b), hereby gives notice in regard to the scheduling of an open meeting as follows:

Friday, February 15, 2013: 9:00 a.m.—Oral hearing on Objection to Commission's Proposed Decision in Claim No. LIB-II-165.

Status: Open.

All meetings are held at the Foreign Claims Settlement Commission, 600 E Street NW., Washington, DC. Requests for information, or advance notices of intention to observe an open meeting, may be directed to: Judith H. Lock, Executive Officer, Foreign Claims Settlement Commission, 600 E Street NW., Suite 6002, Washington, DC 20579. Telephone: (202) 616-6975.

Jeremy R. LaFrancois,
Chief Administrative Counsel.

[FR Doc. 2013-02773 Filed 2-4-13; 4:15 pm]

BILLING CODE 4410-BA-P